ENVIRONMENTAL PROTECTION AGENCY

[FRL-9817-8]

National Environmental Justice Advisory Council; Notification of Public Teleconference Meeting and Public Comment

AGENCY: Environmental Protection Agency (EPA).

ACTION: Notification of Public Teleconference Meeting and Public Comment.

SUMMARY: Pursuant to the Federal Advisory Committee Act (FACA), Public Law 92-463, the U.S. Environmental Protection Agency (EPA) hereby provides notice that the National Environmental Justice Advisory Council (NEJAC) will host a public teleconference meeting on Thursday, June 13, 2013, from 1:00 p.m. to 3:30 p.m. Eastern Time. The primary topics of discussion will be (1) preliminary recommendations concerning EPA's research programs and the scientific foundation needed to address and prevent environmental inequities and (2) EPA's draft Technical Guidance for Assessing Environmental Justice in Regulatory Analysis.

There will be a public comment period from 2:30 p.m. to 3:00 p.m. Eastern Time. Members of the public are encouraged to provide comments relevant to the topics of the meeting.

For additional information about registering to attend the meeting or to provide public comment, please see the “Registration” and SUPPLEMENTARY INFORMATION sections below. Due to a limited number of telephone lines, attendance will be on a first-come, first served basis. Pre-registration is required. Registration for the teleconference meeting closes at Noon Eastern Time on Monday, June 10, 2013. The deadline to sign up to speak during the public comment period, or to submit written public comments, is also Noon, Monday, June 10, 2013.

DATES: The NEJAC teleconference meeting on Thursday, June 13, 2013, will begin promptly at 1:00 p.m. Eastern Time.

Registration: Registrations will primarily be processed via the NEJAC meeting Web page, www.epa.gov/environmentaljustice/nejac/meetings.html. Registrations can also be submitted by email to NEJACJune2013Mtg@AlwaysPursuingExcellence.com with “Register for the NEJAC June 2013 Teleconference” in the subject line; or by phone or fax to 877-773-0779. When registering, please provide your name, organization, city and state, email address, and telephone number for follow up. Please also state whether you would like to be put on the list to provide public comment, and whether you are submitting written comments before the Monday, June 10, 2013, noon deadline. Non-English speaking attendees wishing to arrange for a foreign language interpreter may also make appropriate arrangements using the email address or telephone/fax number.

FOR FURTHER INFORMATION CONTACT: Questions or correspondence concerning the teleconference meeting should be directed to Mr. Aaron Bell, U.S. Environmental Protection Agency, by mail at 1200 Pennsylvania Avenue NW., (MC2201A), Washington, DC 20460; by telephone at 202-564-1044; via email at Bell.Aaron@epa.gov; or by fax at 202-564-1624. Additional information about the NEJAC and upcoming meetings is available at: www.epa.gov/environmentaljustice/nejac.

SUPPLEMENTARY INFORMATION: The Charter of the NEJAC states that the advisory committee shall provide independent advice to the Administrator on areas that may include, among other things, “advice about broad, cross-cutting issues related to environmental justice, including environment-related strategic, scientific, technological, regulatory, and economic issues related to environmental justice.”

A. Public Comment: Members of the public who wish to attend the Thursday, June 13, 2013, public teleconference meeting to provide public comment must pre-register by Noon Eastern Time on Monday, June 10, 2013. Individuals or groups making remarks during the public comment period will be limited to five minutes. To accommodate the large number of people who want to address the NEJAC, only one representative of a particular community, organization, or group will be allowed to speak. Written comments can also be submitted for the record. The suggested format for individuals providing public comments is as follows: Name of speaker; name of organization/community; city and state; and email address; brief description of the concern, and what you want the NEJAC to advise EPA to do. Written comments received by Noon Eastern Time on Monday, June 10, 2013, will be included in the materials distributed to the NEJAC prior to the teleconference. Written comments received after that time will be provided to the NEJAC as time allows. All written comments should be sent to EPA's support contractor, APEX Direct, Inc., via email or fax as listed in the FOR FURTHER INFORMATION CONTACT section above.

B. Information about Services for Individuals with Disabilities: For information about access or services for individuals with disabilities, please contact Ms. Estela Rosas, EPA Contractor, APEX Direct, Inc., at 877-773-0779 or via email at NEJACJune2013Mtg@AlwaysPursuingExcellence.com. To request special accommodations for a disability, please contact Ms. Rosas at least four working days prior to the meeting, to give EPA sufficient time to process your request. All requests should be sent to the address, email, or phone/fax number listed in the “Registration” section above.

Dated: May 17, 2013.
Victoria J. Robinson,
Designated Federal Officer, Office of Environmental Justice, U.S. EPA.

[FR Doc. 2013-12597 Filed 5-24-13; 8:45 am]

BILLING CODE 6560-50-P